DEPARTMENT OF ENERGY

Federal Energy Regulatory Commission

[Docket No. RP00-244-001]

Sumas International Pipeline Inc; Notice of Compliance Filing

June 1, 2000.

Take notice that on May 26, 2000, Sumas International Pipeline Inc. (SIPI), tendered for filing as part of its FERC Gas Tariff, Original Volume No. 2, the following tariff sheets to become effective May 1, 2000:

Substitute Second Revised Sheet Number 10

Substitute Second Revised Sheet Number 11

Substitute Original Sheet Number 11A

Substitute First Revised Sheet Number 13A

Substitute First Revised Sheet Number 13B

Substitute First Revised Sheet Number 13C

Substitute Original Sheet Number 13D

SIPI asserts that the purpose of this filing is to comply with Order No. 587 issued on July 17, 1996; the Notice Clarifying procedures for Filing Tariff Sheets issued on September 12, 1996, in Docket No. RM96-1-000; and the Commission's direction of 10 May, 2000 in Docket No. RP00-244-000 to correct errors in definitions on certain tariff sheets and to revise tariff language to incorporate Gas Industry Standards Board (GISB) Standards 1.3.38 and 1.3.46.

SIPI states that copies of this filing were mailed to all customers of SIPI and Interested Parties.

Any person desiring to protest this filing should file a protest with the Federal Energy Regulatory Commission, 888 First Street, NE., Washington, DC 20426, in accordance with Section 385.211 of the Commission's Rules and Regulations. All such protests must be filed as provided in Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

David P. Boergers,
Secretary.

[FR Doc. 00-14235 Filed 6-6-00; 8:45 am]

BILLING CODE 6717-01-M